DEPARTMENT OF TRANSPORTATION

Federal Motor Carrier Safety Administration

[Docket No. FMCSA-2025-1018]

Hours of Service of Drivers: Hulcher Services, Inc.; Application for Exemption

AGENCY: Federal Motor Carrier Safety Administration (FMCSA), Department of Transportation (DOT).

ACTION: Notice of application for exemption; request for comments.

SUMMARY: FMCSA requests public comment on Hulcher Services, Inc.'s (Hulcher) application for a limited exemption from the hours-of-service (HOS) requirements for drivers of property-carrying commercial motor vehicles (CMVs). The applicant requests the exemption to enable its employees to respond to railroad emergencies that occur outside of, or extend beyond, their normal work hours.

DATES: Comments must be received on or before January 16, 2026.

ADDRESSES: You may submit comments identified by Docket Number FMCSA-2025-1018 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: 1200 New Jersey Avenue SE, West Building, Ground Floor, Washington, DC 20590-0001, between 9 a.m. and 5 p.m., Monday through Friday, except Federal holidays.

• Fax: (202) 493-2251.

Each submission must include the Agency name and the docket number (FMCSA-2025-1018) for this notice. Note that DOT posts all comments received without change to www.regulations.gov, including any personal information included in a comment. Please see the Privacy Act heading below.

Privacy Act: In accordance with 49 U.S.C. 31315(b), DOT solicits comments from the public to better inform its exemption process. DOT posts these comments, including any personal information the commenter provides, to www.regulations.gov, as described in the system of records notice DOT/ALL-14 FDMS (Federal Docket Management System (FDMS)), which can be reviewed at https://www.transportation.gov/individuals/privacy/privacy-act-system-records-notices. The comments are posted without edit and are searchable by the name of the submitter.

FOR FURTHER INFORMATION CONTACT: Mr. Richard Clemente, Driver and Carrier Operations Division; Office of Carrier, Driver and Vehicle Safety Standards, FMCSA; (771) 216-2436; or richard.clemente@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2025-1018), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2025-1018/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov, insert FMCSA-2025-1018 in the keyword box, select the document tab and choose the document to review. To view comments, click this notice, then click “Browse Comments.” If you do not have access to the internet, you may view the docket by visiting Docket Operations on the ground floor of the DOT West Building, 1200 New Jersey Avenue SE, Washington, DC 20590-0001, between 9 a.m. and 5 p.m., ET Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirements

Under 49 CFR 395.3(a)(2), drivers of property-carrying CMVs are prohibited from driving after a period of 14 consecutive hours after coming on duty following 10 consecutive hours off duty.

Under 49 CFR 395.3(b)(1), such drivers are prohibited from operating a CMV for any period after having been on duty 60 hours in any period of 7 consecutive days if the employing motor carrier does not operate CMVs every day of the week.

Under 49 CFR 395.3(b)(2), such drivers are prohibited from operating a CMV for any period after having been on duty 70 hours in any period of 8 consecutive days if the employing motor carrier does operate CMVs every day of the week.

Applicant's Request

Hulcher is a nationwide emergency response provider to the railroad industry, with 27 strategically placed divisions and a workforce trained to rapidly mobilize equipment and personnel to address derailments, natural disasters, and other critical disruptions to rail infrastructure. Hulcher drivers transport heavy recovery equipment such as side-booms, grapple trucks, rollbacks, service trucks, and other CMVs needed to restore normal rail operations following a derailment or related incident.

Hulcher requests the same exemption that FMCSA granted to R.J Corman and Cranemasters, Inc., et al. (RJ Corman) [85 FR 12818, Mar. 4, 2020]. That exemption was renewed on July 24, 2025 [90 FR 34956]. Both the 2020 decision and the 2025 decision have been included in the docket for this exemption request. Hulcher believes it performs the same essential services to the railroad industry and the public as RJ Corman. The requested exemption would apply to Hulcher's fleet of CMVs and approximately 350 driver employees. Hulcher requests relief from the HOS requirements in 49 CFR part 395 when a driver is dispatched in response to a railroad's request to assist in clearing disabled or derailed trains, debris, or hazards that block railroad rights-of-way. According to Hulcher, unplanned events requiring response frequently occur outside normal business hours, including late night and early morning callouts, and the events are often in remote areas where no Federal or State emergency declaration has been issued. According to the applicant, “without the exemption drivers will not be able to transport equipment due to exceeding the 14-hour driving “window” or 70-hour weekly limits, despite being the only qualified operators available.”

Applicant's Equivalent Level of Safety

Hulcher believes the exemption would not compromise safety, as the company claims to maintain a documented fatigue management policy, enforce pre-dispatch rest periods, and equip each Division with on-site supervisors to monitor driver alertness. Hulcher states that its drivers never return to a home terminal or operate CMVs post-restoration of rail service without receiving the required off-duty hours under the Federal HOS rules. Hulcher further implements the following measures to mitigate fatigue and risk during emergency responses: (1) all drivers receive a minimum one-hour lead time prior to mobilization; (2) field supervisors conduct verbal readiness checks and ensure vehicle inspections prior to dispatch; and (3) drivers are explicitly authorized to decline driving assignments if fatigued, and backup operators are dispatched when necessary. Hulcher further adds that its drivers record all time spent at incident sites as on-duty (not driving) time, and no driver is permitted to operate a CMV after completing field work until the required 10 or 34 hours of off-duty rest has been satisfied.

A copy of Hulcher's application for exemption is available for review in the docket for this notice.

IV. Request for Comments

In accordance with 49 U.S.C. 31315(b), FMCSA requests public comment from all interested persons on Hulcher's application for an exemption from the HOS regulations in 49 CFR part 395. All comments received before the close of business on the comment closing date will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Larry W. Minor,
Associate Administrator of Policy.

[FR Doc. 2025-23063 Filed 12-16-25; 8:45 am]

BILLING CODE 4910-EX-P